DEPARTMENT OF TRANSPORTATION

National Highway Traffic Safety Administration

[Docket No. NHTSA-2024-0050]

Notice of Technical Workshop and Demonstrations for Vehicle Classification Test Procedure

AGENCY: National Highway Traffic Safety Administration (NHTSA), Department of Transportation (DOT).

ACTION: Notice of technical workshop and demonstration and request for comments (RFC).

SUMMARY: NHTSA seeks public comment on draft test procedure (TP) number TP-523-00, which is intended to assess vehicles for compliance with certain off-road capabilities requirements for vehicle classification within the Corporate Average Fuel Economy (CAFE) program. This TP is prepared for the limited purpose of use by contracted independent laboratories conducting tests for NHTSA. The TP presents guidelines for a uniform testing and data recording format. TPs are not rules, regulations, or agency interpretations. NHTSA will host a demonstration of TP-523-00 to show how NHTSA intends to test vehicles to determine compliance with its regulations on vehicle classification.

DATES: A technical workshop (presentation) and public demonstration for the test procedure will be held on January 15, 2025, and are expected to begin at 8 a.m. The date, location, and agenda are subject to change, and all registered attendees will be notified of any changes. Comments regarding the TP, the workshop, or the demonstration must be received no later than November 30, 2024 in order to be addressed during the event. The agency may address any comments received during the event regarding the TP, the workshop, and the demonstration, but comments should also be submitted to the docket for formal record per the “Comment” instructions indicated below. Comments submitted to the docket after November 30, 2024 will continue to be received and considered through February 15, 2025 to facilitate the final draft release of the TP.

ADDRESSES:

Workshop and Demonstration Location: The workshop and demonstration will be held at the McNeese Convention Center in San Angelo, Texas. Directions to the meeting location and final agenda will be sent to registered participants as well as posted on the NHTSA Public Information Center (PIC) at https://www.nhtsa.gov/corporate-average-fuel-economy/cafe-public-information-center.

Documents for Comment: NHTSA's Office of Vehicle Safety Compliance (OVSC) laboratory test procedure TP-523-00, described in this RFC, is available for viewing in PDF format in this Docket, as identified in the heading of this document.

Comments: You may submit comments to the Docket, identified as the docket number in the head of this document, by any of the following methods:

• Federal rulemaking Portal: To submit comments electronically, go to the U.S. Government regulations website at http://www.regulations.gov. Follow the online instructions for submitting comments.

• Fax: Written comments may be faxed to 202-493-2251.

• Mail: Send comments to: Docket Management Facility, U.S. Department of Transportation, 1200 New Jersey Avenue SE, West Building Ground Floor, Room W12-140, Washington, DC 20590-0001.

• Hand Delivery: If you submit written comments by hand or courier, please do so at 1200 New Jersey Avenue SE, West Building Ground Floor, Room W12-140, Washington, DC between 9 a.m. and 5 p.m. Eastern Time, Monday through Friday, except Federal holidays. To be sure someone is there to help you, please call 202-366-9826 before coming.

Instructions: For detailed instructions on submitting comments and additional information, see the Public Participation section of this document, which can be found below. Note that all comments received will be posted to http://www.regulations.gov, including any personal information provided.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit https://www.transportation.gov/privacy. If you wish to provide comments containing proprietary or confidential information, please follow the instructions in the section of this notice titled “How do I submit confidential business information?”

FOR FURTHER INFORMATION CONTACT:

To register for event attendance: Please contact Ms. Tuwana Taft, Office of Vehicle Safety Compliance, National Highway Traffic Safety Administration, 1200 New Jersey Avenue SE, Washington, DC 20590. Telephone: (202) 366-1008. Email: tuwana.taft@dot.gov. Participants must register in order for NHTSA to determine an approximate head count and in order for NHTSA to deliver site details and a final agenda to all participants. Attendance will not be permitted without prior registration.

For technical issues: Mr. Michael Brace, Compliance Engineer, Office of Vehicle Safety Compliance, National Highway Traffic Safety Administration, 1200 New Jersey Ave. SE, Washington, DC 20590. Telephone: 313-218-2265. Email: michael.brace@dot.gov.

For legal issues: Mr. Paul Connet, Attorney-Advisor, Office of the Chief Counsel, National Highway Traffic Safety Administration, 1200 New Jersey Avenue SE, Washington, DC 20590. Telephone: 202-366-5547. Email: paul.connet@dot.gov.

SUPPLEMENTARY INFORMATION: On May 2, 2022, NHTSA published a final rule which stated the agency's intention to use a new test procedure to validate non-passenger automobile (“light truck”) classification data provided by manufacturers in their pre-model reports submitted under 49 CFR part 537.¹ NHTSA is providing a draft version of TP-523-00 for comment. TP-523-00 is intended to improve NHTSA's ability to verify light truck compliance with 49 CFR 523.5(b)(2)(i) through (v) by providing guidelines for a uniform testing and information recording format for contracting laboratories who perform testing for NHTSA.

¹ 87 FR 26025.

Introduction

To investigate whether specific vehicles or products comply with Corporate Average Fuel Economy (CAFE) regulations, NHTSA's Office of Vehicle Safety Compliance (OVSC) contracts with labs to conduct compliance testing. The OVSC laboratory test procedures are prepared for the limited purpose of use by contracted independent laboratories conducting compliance tests for the OVSC. OVSC laboratory test procedures are not rules, regulations, or NHTSA interpretations, and OVSC laboratory test procedures are not intended to limit the requirements of the applicable regulations.

Background

NHTSA administers the CAFE program under authority granted in the Energy Policy and Conservation Act (EPCA) of 1975, as amended by the Energy Independence and Security Act (EISA) of 2007.² Per Congress, light-duty vehicles into two basic classes for CAFE compliance purposes: passenger automobiles (“passenger cars”) and non-passenger automobiles (“light trucks”).³ The statutory definitions for these classes indicate that “passenger automobiles” do not include vehicles that “the Secretary decides by regulation . . . has a significant feature (except for 4-wheel drive) designed for off-highway operation, and . . . is a 4-wheel drive automobile or rated at more than 6,000 pounds gross vehicle weight.” ⁴ Because passenger automobiles do not include these vehicles, these vehicles must therefore belong to the non-passenger automobile (light truck) category. Note that Congress expressly directed DOT (by delegation, NHTSA) to determine what a “significant feature (except for 4-wheel drive) designed for off-highway operation” would include.

² NHTSA's authority is codified at 49 U.S.C. 32901 et seq.

³ 49 U.S.C. 32901, 32902.

⁴ 49 U.S.C. 32901.

To implement this Congressional directive to determine significant features designed for off-highway operation, NHTSA promulgated 49 CFR 523. Part 523 defines five different attributes of off-highway operation: “approach angle,” ⁵ “breakover angle,” ⁶ “departure angle,” ⁷ “running clearance,” ⁸ and “front and rear axle clearance.” ⁹ Section 523.5(b) describes how a vehicle may qualify as a non-passenger automobile (light truck) through off-highway operation capabilities. Specifically, NHTSA defined measurement criteria for each of the five attributes of off-highway operation,¹⁰ and a vehicle must meet the measurements for at least four out of those five attributes to qualify as an “off-highway capable” light truck.

⁵ Approach angle means the smallest angle, in a plane side view of an automobile, formed by the level surface on which the automobile is standing and a line tangent to the front tire static loaded radius arc and touching the underside of the automobile forward of the front tire. 49 CFR 523.2.

⁶ Breakover angle means the supplement of the largest angle, in the plan side view of an automobile that can be formed by two lines tangent to the front and rear static loaded radii arcs and intersecting at a point on the underside of the automobile. 49 CFR 523.2.

⁷ Departure angle means the smallest angle, in a plane side view of an automobile, formed by the level surface on which the automobile is standing and a line tangent to the rear tire static loaded radius arc and touching the underside of the automobile rearward of the rear tire. 49 CFR 523.2.

⁸ Running clearance means the distance from the surface on which an automobile is standing to the lowest point on the automobile, excluding unsprung weight. 49 CFR 523.2

⁹ Axle clearance means the vertical distance from the level surface on which an automobile is standing to the lowest point on the axle differential of the automobile.

¹⁰ 49 CFR 523.5(b)(2)(i)-(v).

NHTSA requires manufacturers to provide NHTSA dimension information for approach angle, breakover angle, departure angle, running clearance, and front and rear axle clearance for vehicles they wish to claim as off-highway capable as part of their pre- and mid-model year reports under 49 CFR 537.7(c)(5)(ii). Accurate information about these dimensions is critical for verifying a manufacturer's CAFE compliance information, because if the information is inaccurate, it may be possible that a vehicle would not qualify as a non-passenger automobile (light truck). NHTSA will use TP-523-00 to verify that submitted dimension measurements these attributes are accurate and to confirm that vehicles have been properly classified accordingly. TP-523-00 also provides guidance regarding the expected precision of measurements and the allowable rounding approach for off-highway vehicle clearances and angles, as well as for reporting values in manufacturer's pre-model year (PMY) and mid-model year (MMY) reports.

NHTSA publishes OVSC laboratory test procedures on NHTSA's website so that interested parties may see how NHTSA is instructing its contracted labs to collect data to help OVSC investigate whether vehicles and vehicle equipment sold in the U.S. comply with certain regulatory requirements. A manufacturer should not depend solely on the test reports produced as a result of OVSC's laboratory testing as the basis for certification that its vehicle or item of motor vehicle equipment complies with all applicable regulatory requirements, as OVSC's laboratory tests establish whether a product's attributes or performance passes or fails under some, but not necessarily all, conditions and procedures described in NHTSA regulation. The findings in those reports are the findings of the test laboratory, and the OVSC uses these results as a part of its determination of a non-compliance.

OVSC Laboratory Test Procedure Draft and Request for Comment

To provide further information to stakeholders regarding how TP-523-00 would work in practice, NHTSA will hold a demonstration that stakeholders may attend in person. The scope of this demonstration is strictly limited to issues surrounding the implementation of the OVSC Laboratory Test Procedure TP-523.

NHTSA also invites public comment on TP-523-00. Consequently, this notice serves as a request for comments (RFC). NHTSA will review and consider the feedback, and certain comments may be addressed during the workshop and demonstration event if submitted by November 30, 2024.

The RFC is strictly limited to the contents of OVSC laboratory test procedure TP-523-00 and the corresponding demonstration. NHTSA is not seeking comments at this time about amending either the vehicle classification requirements in 49 CFR 523 nor the standards described in 49 CFR 531 or 49 CFR 533. TP-523-00 is available for viewing in PDF format in the Docket identified in the heading of this document.

Public Participation

How do I prepare and submit comments?

Your comments must be written and in English. To ensure that your comments are correctly filed in the Docket, please include the docket number indicated in this document in your comments.

Please limit your comments to 15 pages. We established this limit to encourage you to write your primary comments in a concise fashion. However, you may attach necessary additional documents to your comments. There is no limit on the length of the attachments.

If you are submitting comments electronically as a PDF (Adobe) file, NHTSA asks that the documents be submitted using the Optical Character Recognition (OCR) process, thus allowing NHTSA to search and copy certain portions of your submissions.

Please note that pursuant to the Data Quality Act, in order for substantive data to be relied upon and used by the agency, it must meet the information quality standards set forth in the OMB and DOT Data Quality Act guidelines. Accordingly, we encourage you to consult the guidelines in preparing your comments. OMB's guidelines may be accessed at https://www.transportation.gov/regulations/dot-information-dissemination-quality-guidelines.

How can I be sure that my comments were received?

If you submit comments by hard copy and wish Docket Management to notify you upon its receipt of your comments, enclose a self-addressed, stamped postcard in the envelope containing your comments. Upon receiving your comments, Docket Management will return the postcard by mail. If you submit comments electronically, your comments should appear automatically in the Docket identified in the heading of this document on www.regulations.gov. If they do not appear within two weeks of posting, NHTSA suggests that you call the Docket Management Facility at (202) 366-9826.

How do I submit confidential business information?

You should submit a redacted “public version” of your comment (including redacted versions of any additional documents or attachments) to the Docket using any of the methods identified under ADDRESSES. This “public version” of your comment should contain only the portions for which no claim of confidential treatment is made and from which those portions for which confidential treatment is claimed has been redacted. See below for further instructions on how to do this.

You also need to submit a request for confidential treatment directly to the Office of the Chief Counsel. Requests for confidential treatment are governed by 49 CFR part 512. Your request must set forth the information specified in part 512. This includes the materials for which confidentiality is being requested (as explained in more detail below); supporting information, pursuant to Section 512.8; and a certificate, pursuant to Section 512.4(b) and Part 512, appendix A.

You are required to submit to the Office of the Chief Counsel one unredacted “confidential version” of the information for which you are seeking confidential treatment. Pursuant to Section 512.6, the words “ENTIRE PAGE CONFIDENTIAL BUSINESS INFORMATION” or “CONFIDENTIAL BUSINESS INFORMATION CONTAINED WITHIN BRACKETS” (as applicable) must appear at the top of each page containing information claimed to be confidential. In the latter situation, where not all information on the page is claimed to be confidential, identify each item of information for which confidentiality is requested within brackets: “[ ].”

You are also required to submit to the Office of the Chief Counsel one redacted “public version” of the information for which you are seeking confidential treatment. Pursuant to Section 512.5(a)(2), the redacted “public version” should include redactions of any information for which you are seeking confidential treatment (i.e., the only information that should be unredacted is information for which you are not seeking confidential treatment).

NHTSA is currently treating electronic submission as an acceptable method for submitting confidential business information to the agency under Part 512. Please do not send a hardcopy of a request for confidential treatment to NHTSA's headquarters. The request should be sent to Dan Rabinovitz in the Office of the Chief Counsel at daniel.rabinovitz@dot.gov. You may either submit your request via email or request a secure file transfer link. If you are submitting the request via email, please also email a courtesy copy of the request to Paul Connet at paul.connet@dot.gov.

Will the agency consider late comments?

In our response, we will consider all comments that Docket Management receives before the close of business on the comment closing date indicated above under DATES. To the extent possible, we may also consider comments that Docket Management receives after that date.

How will the agency utilize comments received?

Comments received ahead of the workshop and demonstration may be addressed at the event. The agency will consider all comments received and will incorporate comments as it deems appropriate into the OVSC laboratory test procedure.

How can I read the comments submitted by other people?

You may read the comments received by Docket Management at the address given above under ADDRESSES. The hours of the Docket are indicated above in the same location. You may also see the comments on the internet, at www.regulations.gov, identified by the docket number at the heading of this notice.

Otto G. Matheke III,
Director, Office of Vehicle Safety Compliance.

[FR Doc. 2024-25069 Filed 10-28-24; 8:45 am]

BILLING CODE 4910-59-P